POSTAL REGULATORY COMMISSION

[Docket No. N2021-2; Presiding Officer's Ruling No. 6]

Service Standard Changes

AGENCY: Postal Regulatory Commission.

ACTION: Notice.

SUMMARY: The Commission is providing notice that the hearing dates reserved for August 11-13, 2021, are cancelled. This notice informs the public of the cancelling of said hearing dates and excuses the witnesses from appearing.

ADDRESSES: For additional information, Presiding Officer's Ruling No. 6 can be accessed electronically through the Commission's website at https://www.prc.gov.

FOR FURTHER INFORMATION CONTACT: David A. Trissell, General Counsel, at 202-789-6820.

SUPPLEMENTARY INFORMATION: On June 17, 2021, the Postal Service filed a request for an advisory opinion regarding planned changes to the service standards for First-Class Package Service.¹ On July 23, 2021, the American Postal Workers Union, AFL-CIO (APWU) filed a notice of its intent to file rebuttal testimony.²

¹ United States Postal Service Request for an Advisory Opinion on Changes in the Nature of Postal Services, June 17, 2021 (Request).

² American Postal Workers Union, AFL-CIO Notice of Intent to File Rebuttal Testimony, July 23, 2021.

The Commission's procedural schedule reserved August 11-13, 2021, as hearing dates, if any party filed a notice of intent to file a rebuttal case.³ In accordance with this schedule, the Presiding Officer established August 4, 2021, as the deadline for any parties to file any notices of intent to conduct oral cross-examination on the Postal Service's direct case or to file a request to present oral argument at the hearing. POR No. 3. No party filed a notice of intent to cross-examine any of the Postal Service's witnesses or a request to present oral argument by the established deadline. Additionally, the Presiding Officer established August 5, 2021, as the deadline for any parties to file any notices of intent to conduct oral cross-examination on the APWU's rebuttal case. No party filed a notice of intent to cross-examine the APWU's rebuttal witness.⁴ Therefore, the hearing dates reserved for August 11-13, 2021, are cancelled.

³ Presiding Officers Ruling No. 3 at 2 (citing Order Modifying Procedural Schedule, July 8, 2021, at 3 (Order No. 5933) (modifying Notice and Order on the Postal Service's Request for an Advisory Opinion on Changes in the Nature of Postal Services, June 21, 2021 (Order No. 5920)) (POR No. 3).

⁴ The Postal Service stated that it did not intend to conduct oral cross-examination of the rebuttal witness and reserved the right to conduct follow-up cross-examination in the event that any other party did file a notice of intent to conduct oral cross-examination. See United States Postal Service Notice Concerning Oral Cross-Examination of Rebuttal Witnesses, August 5, 2021, at 1.

The Postal Service's witnesses—Stephen B. Hagenstein (USPS-T-1), Michelle Kim (USPS-T-2), Thomas J. Foti (USPS-T-3), and Sharon Owens (institutional witness)—are not called for oral cross-examination and are excused from appearing. No later than Tuesday, August 10, 2021, the Postal Service shall file any corrected testimony, corrected designated written-cross examination, etc., applicable to the excused witnesses with a declaration/affidavit from the witness attesting to the proposed record material. The Postal Service may move to admit these materials by written motion by Wednesday, August 11, 2021. Objections to the admission of the proposed record material for these excused witnesses are due Thursday, August 12, 2021.

Additionally, the rebuttal witness—Anita Morrison (APWU-RT-1)—is not called for oral cross-examination and is excused from appearing. No later than Thursday, August 12, 2021, the rebuttal witness shall file a motion, in writing, to admit her testimony, along with a declaration that her testimony would be the same if offered orally (and proffer any corrections if necessary). Objections to the admission of the proposed record material for this excused rebuttal witness are due Friday, August 13, 2021.

Ruling

1. The hearing dates reserved for August 11-13, 2021, are cancelled.

2. Proposed record materials from the excused Postal Service witnesses shall be filed with the Commission by August 10, 2021, consistent with the body of this Ruling.

3. The Postal Service shall move to admit the proposed record materials for excused witnesses by August 11, 2021, consistent with the body of this Ruling.

4. Objections to the admission of the Postal Service's proposed record materials are due August 12, 2021.

5. Excused rebuttal witness shall move to have her testimony (or corrected testimony) admitted by August 12, 2021, consistent with the body of this Ruling.

6. Objections to the admission of the rebuttal witness' proposed record materials are due August 13, 2021, consistent with the body of this Ruling.

7. The Secretary shall arrange for publication of this ruling in the Federal Register.

Erica A. Barker,
Secretary.

[FR Doc. 2021-17189 Filed 8-11-21; 8:45 am]

BILLING CODE 7710-FW-P